DEPARTMENT OF HOMELAND SECURITY

National Communications System

[Docket No. DHS-2005-0051]

Notice of Revised Agenda and Partial Closure for the July 27, 2005, Meeting of the President's National Security Telecommunications Advisory Committee

AGENCY: National Communications System (NCS).

ACTION: Notice of partially closed meeting.

SUMMARY: The President's National Security Telecommunications Advisory Committee (NSTAC) will meet on Wednesday, July 27, 2005, from 2 p.m. until 3 p.m. The meeting will take place via teleconference and will be partially closed to the public. For access to the conference bridge and meeting materials, interested members of the public should contact Ms. Elizabeth Hart at (703) 289-5948, or by e-mail at hart_elizabeth@bah.com by 5 p.m. on Monday, July 25, 2005.

The NSTAC advises the President of the United States on issues and problems related to implementing national security and emergency preparedness (NS/EP) telecommunications policy. Between 2 p.m. and 2:30 p.m. the members will discuss the NSTAC work plan for the coming year and the activities of two NSTAC task forces. This portion of the meeting remains open to the public.

Basis for Closure

Notice of the July 27th meeting of the NSTAC was submitted for publication in the Federal Register on July 7, 2005, and published on July 12, 2005 (70 FR 40052). Subsequent to the July 7 terrorist attacks in London, however, the NSTAC asked Robert B. Stephan, Assistant Secretary for Infrastructure Protection, Department of Homeland Security (Department), to discuss the attacks during the July 27 NSTAC meeting. This topic will be incorporated into the discussions of Exercise Pinnacle and the National Infrastructure Protection Plan (NIPP), items which have been on the agenda since notice of this meeting appeared in the Federal Register on July 12, 2003. The combined discussion of the London attacks, Exercise Pinnacle, and the NIPP will occur between 2:30 and 3 p.m. and will likely involve sensitive information on the release of which would likely frustrate the Department's ability to implement the NIPP, safeguard critical facilities, and implement response and recovery activities. Accordingly, the Department has determined that this portion of the meeting will be closed to the public.

Notice of the partial closure of this meeting is given pursuant to 41 CFR 102-3.150 which allows such notice within 15 calendar days of a meeting due to exceptional circumstances. Given the timing of the London attacks, earlier notice of this agenda change was not possible.

FOR FURTHER INFORMATION CONTACT: Ms. Alberta Ross, Industry Operations Branch at (703) 235-5526, e-mail: Alberta.Ross@dhs.gov, or write the Deputy Manager, National Communications System, Department of Homeland Security, IAIP/NCS/N5, Washington, DC 20528-mail stop #8510.

SUPPLEMENTARY INFORMATION: Public Comments: You may submit comments for the public portion of this meeting, identified by DHS-2005-0051, by one of the following methods:

• EPA Federal Partner EDOCKET Web Site: http://www.epa.gov/feddocket. Follow instructions for submitting comments on the Web site.

• Federal eRulemaking Portal: http://www.regulations.gov. Follow the instructions for submitting comments.

• E-mail: NSTAC@dhs.gov. When submitting comments electronically, please include DHS-2005-0051 in the subject line of the message.

• Mail: Office of the Manager, National Communications System (N5), Department of Homeland Security, Washington, DC 20529. To ensure proper handling, please reference DHS-2005-0051 on your correspondence. This mailing address may also be used for paper, disk or CD-ROM submissions.

All comments received will be posted without change to http://www.epa.gov/feddocket, including any personal information provided. For access to the docket, or to read background documents or comments received, go to http://www.epa.gov/feddocket. You may also access the Federal eRulemaking Portal at http://www.regulations.gov.

Dated: July 15, 2005.
Peter M. Fonash,
Deputy Manager, National Communications System.

[FR Doc. 05-14442 Filed 7-18-05; 2:57 pm]

BILLING CODE 4410-10-M